DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2010, there were three applications approved. This notice also includes information on six applications, one approved in November 2008, one approved in June 2009, one approved in September 2009, one approved in October 2009, one approved in December 2009, and the last approved in February 2010, inadvertently left off the November 2008, June 2009, September 2009, October 2009, December 2009 and February 2010 notices, respectively. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Virgin Islands Port Authority, St. Thomas, U.S. Virgin Islands.

Application Number: 09-04-C-00-STX.

Application Type: Impose and use a PFC.

PFC Level: $3.00.

Total PFC Revenue Approved in this Decision: $506,898.

Charge Effective Date: December 1, 1996.

Charge Expiration Date: July 1, 2003.

Class of Air Carriers Not Required to Collect PFC'S:None.

Brief Description of Project Approved for Collection and Use:

Reconfigure and redesign passenger areas and bag claim.

Decision Date: November 21, 2008.

FOR FURTHER INFORMATION CONTACT: Susan Moore, Orlando Airports District Office, (407) 812-6331.

Public Agency: City of Des Moines, Iowa.

Application Number: 09-12-C-00-DSM.

Application Type: Impose and use a PFC.

PFC Level: $4.50.

Total PFC Revenue Approved in this Decision: $3,345,318.

Earliest Charge Effective Date: January 1, 2018.

Estimated Charge Expiration Date: October 1, 2019.

Class of Air Carriers Not Required To Collect PFC'S:Air taxi/commercial operators.

Determination: Approved. Based on information contained in the public agency's application, the FAA has determined that the approved class accounts for less than 1 percent of the total annual enplanements at Des Moines International Airport.

Brief Description of Project Approved for Collection and Use:

Runway 13R/31L—construction.

Decision Date: June 15, 2009.

FOR FURTHER INFORMATION CONTACT: Nicoletta Oliver, Central Region Airports Division, (816) 329-2642.

Public Agency: City of Rochester, Minnesota.

Application Number: 09-05-C-00-RST.

Application Type: Impose and use a PFC.

PFC Level: $4.50.

Total PFC Revenue Approved in this Decision: $2,549,524.

Earliest Charge Effective Date: January 1, 2011.

Estimated Charge Expiration Date: April 1, 2015.

Class of Air Carriers Not Required To Collect PFC'S:Air taxi/commercial operators.

Determination: Approved. Based on information contained in the public agency's application, the FAA has determined that the approved class accounts for less than 1 percent of the total annual enplanements at Rochester International Airport.

Brief Description of Projects Approved for Collection and Use:

Security fence and upgrades.

Snow removal equipment building expansion.

Security screening expansion.

Terminal restroom design.

Terminal restroom remodel.

Terminal elevator upgrades.

Terminal flight information displays.

General aviation apron rehabilitation.

Aircraft rescue and firefighting equipment.

Jet passenger loading bridge.

PFC consultation.

Passenger terminal remodeling.

Pavement management system.

Master plan, phase 1.

Decision Date: September 23, 2009.

FOR FURTHER INFORMATION CONTACT: Nancy Nistler, Minneapolis Airports District Office, (612) 713-4353.

Public Agency: Burbank-Glendale-Pasadena Airport Authority, Burbank, California.

Application Number: 09-10-C-00-BUR.

Application Type: Impose and use a PFC.

PFC Level: $4.50.

Total PFC Revenue Approved in This Decision: $951,400.

Earliest Charge Effective Date: January 1, 2015.

Estimated Charge Expiration Date: December 1, 2015.

Class of Air Carriers Not Required To Collect PFC'S:Non-scheduled/on-demand air carriers filing FAA Form 1800-31.

Determination: Approved. Based on information contained in the public agency's application, the FAA has determined that the approved class accounts for less than 1 percent of the total annual enplanements at Bob Hope Airport.

Brief Description of Projects Approved for Collection and Use at a $4.50 PFC Level:

Precision approach path indicator.

Runway incursion guard lights.

Brief Description of Project Approved for Use:

Terminal ramp renovations.

Decision Date: October 9, 2009.

FOR FURTHER INFORMATION CONTACT: Darlene Williams, Los Angeles Airports District Office, (310) 725-3625.

Public Agency: Niagara Frontier Transportation Authority, Buffalo, New York.

Application Number: 09-07-C-00-BUF.

Application Type: Impose and use a PFC.

PFC Level: $4.50.

Total PFC Revenue Approved in this Decision: $15,370,095.

Earliest Charge Effective Date: November 1, 2012.

Estimated Charge Expiration Date: March 1, 2014.

Class of Air Carriers Not Required to Collect PFC's: Air taxi/commercial operators filing FAA Form 1800-31.

Determination: Approved. Based on information contained in the public agency's application, the FAA has determined that the approved class accounts for less than 1 percent of the total annual enplanements at Buffalo Niagara International Airport (BUF).

Brief Description of Projects Approved for Collection at BUF and Use at BUF at a $4.50 PFC Level:

Construction of concourse expansion and modifications, passenger terminal.

Rehabilitation of taxilane K-1.

Design and implement noise mitigation measures.

Brief Description of Project Approved for Collection at BUF and Future Use at BUF at a $4.50 PFC Level:

Realign taxiway M to air cargo ramp and construct new taxiway N.

Brief Description of Project Approved for Collection at BUF and Use at BUF at a $3.00 PFC Level:

Purchase of passenger movement equipment (shuttle buses).

Brief Description of Project Partially Approved for Collection At BUF and Use at BUF at a $4.50 PFC Level:

Purchase aircraft rescue and firefighting safety equipment.

Determination: Partially approved for collection and use. The information provided by the public agency regarding two of the vehicles, a mini-pumper truck and a rescue/crash—snozzle truck, was insufficient to allow the FAA to determine eligibility. Therefore, the only vehicles approved in this project were the mobile command vehicles.

Brief Description of Project Partially Approved for Collection at BUF and Use at BUF at a $3.00 PFC Level:

Purchase of security equipment.

Determination: Partially approved for collection and use. The public agency included two work elements in this project, acquisition of vehicles and acquisition of radio and computer equipment. The radio and computer equipment was determined to be expendable items used to upgrade the base vehicle and, as such, was determined to be ineligible for PFC funding.

Brief Description of Projects Approved for Collection at BUF and Use at BUF and at Niagara Falls International Airport at a $3.00 PFC Level:

Purchase snow removal equipment.

PFC programming and administration.

Decision Date: December 17, 2009.

FOR FURTHER INFORMATION CONTACT: Andrew Brooks, New York Airports District Office, (516) 227-3816.

Public Agency: Golden Triangle Regional Airport Authority, Columbus, Mississippi.

Application Number: 10-07-C-00-GTR.

Application Type: Impose and use a PFC.

PFC Level: $4.50.

Total PFC Revenue Approved in This Decision: $355,000.

Earliest Charge Effective Date: October 1, 2016.

Estimated Charge Expiration Date: October 1, 2018.

Class of Air Carriers Not Required To Collect PFC's: None.

Brief Description of Projects Approved for Collection and Use:

Terminal renovation.

Runway extension.

Aircraft rescue and firefighting equipment.

Security equipment.

Decision Date: February 24, 2010.

FOR FURTHER INFORMATION CONTACT: Kevin Morgan, Jackson Airports District Office, (601) 664-9891.

Public Agency: City of Atlanta, Georgia.

Application Number: 10-11-C-00-ATL.

Application Type: Impose and use a PFC.

PFC Level: $4.50.

TOTAL PFC REVENUE APPROVED IN THIS DECISION: $422,480,178.

Earliest Charge Effective Date: June 1, 2020.

Estimated Charge Expiration Date: January 1, 2023.

Class of Air Carriers Not Required to Collect PFC'S: Nonscheduled/on-demand air carriers (air taxi! commercial operators).

Determination: Approved. Based on information contained in the public agency's application, the FAA has determined that the approved class accounts for less than 1 percent of the total annual enplanements at Hartsfield-Jackson Atlanta International Airport.

Brief Description of Projects Approved for Collection and Use at a $4.50 PFC Level:

Noise mitigation program.

Terminal capacity enhancement.

Taxiways SC and SJ extensions.

Closed circuit television phase 3.

Elevated walkways.

Airport inbound roadway replacement/reconfiguration.

Brief Description of Projects Approved for Collection and Use at a $3.00 PFC Level:

Capacity study.

Spill containment upgrades.

Terminal upgrades—restrooms/water.

Terminal area design.

Brief Description of Project Approved for Collection at a $3.00 PFC Level:

Runway 27R extension.

Brief Description of Withdrawn Project:

Kennel facility.

Date of withdrawal: March 10, 2010.

Decision Date: March 12, 2010.

FOR FURTHER INFORMATION CONTACT: Anna Guss, Atlanta Airports District Office, (404) 305-7146.

Public Agency: City of Colorado Springs, Colorado.

Application Number: 10-17-C-00-COS.

Application Type: Impose and use a PFC.

PFC Level: $3.00.

Total PFC Revenue Approved in This Decision: $3,618,000.

Earliest Charge Effective Date: April 1, 2015.

Estimated Charge Expiration Date: November 1, 2016.

Class of Air Carriers Not Required to Collect PFC's: None.

Brief Description of Projects Approved for Collection and Use:

Rehabilitation of taxiways G and H (phase IV).

Reconstruction of runway 12/20 (construction).

Checked baggage inspection system.

Brief Description of Project Partially Approved for Collection and Use:

Fleet improvement (phase III).

Determination: Partially approved for collection and use. Two of the proposed vehicles, enclosed sidewalk brooms, were determined not to be PFC eligible and were disapproved.

Decision Date: March 26, 2010.

FOR FURTHER INFORMATION CONTACT: Chris Schaffer, Denver Airports District Office, (303) 342-1258.

Public Agency: Ports of Douglas County and Chelan County, East Wenatchee, Washington.

Application Number: 10-10-C-00-EAT.

Application Type: Impose and use a PFC.

PFC Level: $4.50.

Total PFC Revenue Approved in This Decision: $881,750.

Earliest Charge Effective Date: May 1, 2010.

Estimated Charge Expiration Date: February 1, 2015.

Class of Air Carriers Not Required to Collect PFC'S: None.

Brief Description of Projects Approved for Collection and Use:

Environmental mitigation for fuel truck parking (engineering).

Glycol recovery system (engineering).

Grant Road relocation, environmental assessment.

Airport Way relocation.

Taxiway A lighting (engineering).

Aircraft rescue and firefighting truck purchase.

Decision Date: March 26, 2010.

FOR FURTHER INFORMATION CONTACT: Trang Tran, Seattle Airports District Office, (425) 227-1662.

Amendments to PFC Approvals
Amended No., city, state | Amendment approved date | Original approved net PFC revenue | Amended approved net PFC revenue | Original estimated chare exp. date | Amended estimated charge exp. date
06-03-C-02-FSM Fort Smith, AR | 03/05/10 | $759,249 | $732,519 | 04/01/09 | 03/01/09
05-06-C-01-CAK Akron, OH | 03/10/10 | 21,369,000 | 27,737,085 | 08/01/16 | 08/01/15
94-01-C-02-LNS Lancaster, PA | 03/10/10 | 1,483,000 | 384,858 | 02/01/09 | 02/01/09
99-07-C-04-SJC San Jose, CA | 03/12/10 | 12,778,609 | 8,004,112 | 07/01/02 | 07/01/02
04-14-C-02-SJC San Jose, CA | 03/12/10 | 39,131,000 | 18,162,143 | 10/01/14 | 10/01/14
08-06-C-01-LFT Lafayette, LA | 03/17/10 | 3,950,000 | 3,771,733 | 05/01/12 | 05/01/13
06-19-C-01-ORD Chicago, IL | 03/22/10 | 1,290,509,174 | 1,423,480,828 | 07/01/24 | 11/01/24
99-03-C-04-JAN Jackson, MS | 03/22/10 | 12,467,652 | 12,231,070 | 01/01/06 | 01/01/06
03-04-C-03-JAN Jackson, MS | 03/22/10 | 4,639,569 | 4,208,921 | 11/01/07 | 11/01/07
02-05-C-02-BLI Bellingham, WA | 03/29/10 | 926,873 | 926,855 | 10/01/06 | 10/01/06

Issued in Washington, DC, on April 22, 2010.
Joe Hebert,
Manager, Financial Analysis and Passenger Facility Charge Branch.

[FR Doc. 2010-9760 Filed 4-28-10; 8:45 am]

BILLING CODE 4910-13-M